DEPARTMENT OF HEALTH AND HUMAN SERVICES

Administration for Children and Families

Submission for OMB Review; Comment Request

Title: ACF-196.

OMB No.: 0970-0199.

Description: The form provides specific data regarding claims and provides a mechanism for States to request grant awards and certify the availability of state matching funds. Failure to collect this data would seriously compromise ACF's ability to monitor expenditures. This information is also used to estimate Outlays and may be used to prepare ACF budget submissions to Congress. The following citations should be noted in regard to this collection: 405(c)(1); 409(a)(7); and 409(a)(1).

Respondents: State TANF Agencies.

Annual Burden Estimates
Instrument | Number of respondents | Number of responses per respondent | Average burden hours per response | Total burden hours
ACF-196 | 54 | 4 | 8 | 1,728
Estimated Total Annual Burden Hours | 1,728

Additional Information: Copies of the proposed collection may be obtained by writing to the Administration for Children and Families, Office of Administration, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20508, Attn: Desk Officer for ACF.

Dated: October 7, 2002.
Robert Sargis,
Reports Clearance Officer.

[FR Doc. 02-25975 Filed 10-10-02; 8:45 am]

BILLING CODE 4184-01-M